JOINT BOARD FOR THE ENROLLMENT OF ACTUARIES

Meeting of the Advisory Committee; Meeting

AGENCY: Joint Board for the Enrollment of Actuaries.

ACTION: Correction to Notice of Federal Advisory Committee meeting.

SUMMARY: This document corrects Notice of Federal Advisory Committee that was published in the Federal Register on Tuesday, December 13, 2005 (70 FR 73720). The Executive Director of the Joint Board for the Enrollment of Actuaries gives notice of a meeting of the Advisory Committee on Actuarial Examinations (portions of which will be open to the public) in Washington, DC at the Office of Professional Responsibility on January 9 and 10, 2006.

DATES: Monday, January 9, 2006, from 9 a.m. to 5 p.m., and Tuesday, January 10, 2006, from 8:30 a.m. to 5 p.m.

FOR FURTHER INFORMATION CONTACT: Patrick W. McDonough, Executive Director of the Joint Board for the Enrollment of Actuaries, 202-622-8225.

SUPPLEMENTARY INFORMATION:

Need for Correction

As published, the notice contains an error that may prove to be misleading and is in need of clarification.

Correction of Publication

Accordingly, the publication of the notices, that was the subject of FR Doc. E5-7246, is corrected as follows:

On page 73720, column 2, third line of the second full paragraph, the language “will commence at 1 p.m. on January 10” is corrected to read “will commence at 1 p.m. on January 9”.

Guy R. Traynor,
Acting Chief, Publications and Regulations Branch, Legal Processing Division, Associate Chief Counsel, (Procedures and Administration).

[FR Doc. E5-7581 Filed 12-20-05; 8:45 am]

BILLING CODE 4830-01-P